DEPARTMENT OF ENERGY

Federal Energy Regulatory Commission

Combined Notice of Filings #2

Take notice that the Commission received the following electric rate filings:

Docket Numbers: ER10-2265-010; ER14-1818-010; ER12-1238-007; ER10-2338-012; ER10-2340-012; ER12-1239-007; ER10-2385-008; ER11-2062-019; ER11-2508-018; ER11-4307-019; ER12-261-018; ER10-2368-007; ER11-2107-010; ER11-2108-010; ER10-2888-019; ER11-4308-019; ER11-2805-018; ER10-2382-008; ER10-2357-008; ER10-2369-007; ER10-2361-008.

Applicants: NRG Power Marketing LLC, Boston Energy Trading and Marketing LLC, Broken Bow Wind, LLC, CP Power Sales Nineteen, L.L.C., CP Power Sales Twenty, L.L.C., Crofton Bluffs Wind, LLC, Elkhorn Ridge Wind, LLC, Energy Plus Holdings LLC, GenOn Energy Management, LLC, Green Mountain Energy Company, Independence Energy Group LLC, Laredo Ridge Wind, LLC, North Community Turbines LLC, North Wind Turbines LLC, Norwalk Power LLC, Reliant Energy Northeast LLC, RRI Energy Services, LLC, San Juan Mesa Wind Project, LLC, Sleeping Bear, LLC, Taloga Wind, LLC, Wildorado Wind, LLC.

Description: Updated Market Power Analysis for the Southwest Power Pool Region of NRG SPP MBR Sellers.

Filed Date: 12/31/15.

Accession Number: 20151231-5100.

Comments Due: 5 p.m. ET 2/29/16.

Docket Numbers: ER10-2721-006.

Applicants: El Paso Electric Company.

Description: Updated Market Power Analysis of El Paso Electric Company (Volume1 of 2).

Filed Date: 12/31/15.

Accession Number: 20151231-5101.

Comments Due: 5 p.m. ET 2/29/16.

Docket Numbers: ER10-2805-005; ER10-2564-006; ER10-2600-006; ER10-2289-006.

Applicants: Central Hudson Gas & Electric Corporation, Tucson Electric Power Company, UNS Electric, Inc., UniSource Energy Development Company.

Description: Triennial Market Power Update for the Southwest Region of the Fortis, Inc. subsidiaries.

Filed Date: 12/31/15.

Accession Number: 20151231-5159.

Comments Due: 5 p.m. ET 2/29/16.

Docket Numbers: ER10-2984-022.

Applicants: Merrill Lynch Commodities, Inc.

Description: Notice of Non-Material Change in Status of Merrill Lynch Commodities, Inc.

Filed Date: 12/31/15.

Accession Number: 20151231-5110.

Comments Due: 5 p.m. ET 1/21/16.

Docket Numbers: ER10-3310-011; ER15-2013-003; ER14-1439-005; ER11-2489-008; ER12-2639 -006.

Applicants: New Harquahala Generating Company, LLC, Talen Energy Marketing, LLC, TrailStone Power, LLC, Hatchet Ridge Wind, LLC, Ocotillo Express LLC.

Description: Updated Market Power Analysis for the Southwest Region of New Harquahala Generating Company, LLC, et al.

Filed Date: 12/30/15.

Accession Number: 20151230-5385.

Comments Due: 5 p.m. ET 2/29/16.

Docket Numbers: ER15-1737-001.

Applicants: Southwest Power Pool, Inc.

Description: Compliance filing: 2nd Comp. Filing in ER15-1737 Revising Westar Energy's Formula Rate Protocols to be effective 3/1/2015.

Filed Date: 12/31/15.

Accession Number: 20151231-5095.

Comments Due: 5 p.m. ET 1/21/16.

Docket Numbers: ER15-1738-001.

Applicants: Southwest Power Pool, Inc.

Description: Compliance filing: 2nd Compliance Filing in ER15-1738 Revising KCP&L-GMO's Formula Rate Protocols to be effective 3/1/2015.

Filed Date: 12/31/15.

Accession Number: 20151231-5107.

Comments Due: 5 p.m. ET 1/21/16.

Docket Numbers: ER15-1739-001.

Applicants: Southwest Power Pool, Inc.

Description: Compliance filing: 2nd Compliance Filing in ER15-1739 Revising KCP&L's Formula Rate Protocols to be effective 3/1/2015.

Filed Date: 12/31/15.

Accession Number: 20151231-5160.

Comments Due: 5 p.m. ET 1/21/16.

Docket Numbers: ER16-673-000.

Applicants: Sierra Pacific Power Company, Nevada Power Company.

Description: Section 205(d) Rate Filing: Service Agreement No. 15-00086 (NVE-NVE) to be effective 1/1/2016.

Filed Date: 12/31/15.

Accession Number: 20151231-5120.

Comments Due: 5 p.m. ET 1/21/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 31, 2015.
Nathaniel J. Davis, Sr.,
Deputy Secretary.

[FR Doc. 2016-00095 Filed 1-7-16; 8:45 am]

BILLING CODE 6717-01-P